DEPARTMENT OF ENERGY

Federal Energy Regulatory Commission

[Docket Nos. PR17-60-001; PR17-60-002]

Atmos Pipeline-Texas; Notice of Technical Conference

Take notice that an informal technical conference concerning the above-captioned proceedings will be convened by phone on May 2, 2018, at 2:00 p.m. (EDT). The purpose of the teleconference will be to discuss comments filed in the proceeding.

All interested parties are invited to participate by phone. Please email Deirdra Archie at deirdra.archie@ferc.gov or call (202) 502-6819 by Tuesday, May 1, 2018, to RSVP and to receive specific instructions on how to participate.

Dated: April 19, 2018.
Nathaniel J. Davis, Sr.,
Deputy Secretary.

[FR Doc. 2018-08613 Filed 4-24-18; 8:45 am]

BILLING CODE 6717-01-P